COMMODITY FUTURES TRADING COMMISSION

Quantitative Messaging Research

AGENCY: Commodity Futures Trading Commission.

ACTION: Notice.

SUMMARY: The Commodity Futures Trading Commission (“CFTC” or “Commission”) is announcing an opportunity for public comment on a proposed collection of information by the agency. Under the Paperwork Reduction Act (“PRA”), 44 U.S.C. 3501 et seq., Federal agencies are required to publish notice in the Federal Register concerning each proposed collection of information and to allow 60 days for public comment. The CFTC's Office of Consumer Outreach (“OCO”) develops campaigns to change consumer behaviors so that consumers can better avoid fraud as defined under the Commodities Exchange Act. The CFTC is posing survey questions to the public. This survey will include screening questions to identify the correct respondents and questions to determine optimal messages to help consumers identify, avoid, and report financial fraud as part of a consumer-facing anti-fraud campaign. This survey will follow qualitative message testing research (for which CFTC received fast-track OMB approval) and is necessary to identify, with statistical validation, which of these messages most effectively help consumers to identify, avoid, and report financial fraud.

DATES: Comments must be received on or before October 21, 2013.

ADDRESSES: You may submit comments, regarding the burden estimated or any other aspect of the information collection, including suggestions for reducing the burden, by any of the following methods:

Agency Web site, via its Comments Online process: http://comments.cftc.gov. Follow the instructions for submitting comments through the Web site.

Mail: Send to Melissa D. Jurgens, Secretary of the Commission, Commodity Futures Trading Commission, 1155 21st Street NW., Washington, DC 20581.

Hand delivery/Courier: Same as Mail above.

Federal eRulemaking Portal: http://www.regulations.gov/search/index.jsp. Follow the instructions for submitting comments.

Please submit your comments using only one method.

All comments must be submitted in English, or if not, accompanied by an English translation. Comments will be posted as received to http://www.cftc.gov. You should submit only information that you wish to make available publicly. If you wish the Commission to consider information that you believe is exempt from disclosure under the Freedom of Information Act, a petition for confidential treatment of the exempt information may be submitted according to the procedures established in § 145.9 of the Commission's regulations.¹

¹ 17 CFR 145.9.

The Commission reserves the right, but shall have no obligation, to review, pre-screen, filter, redact, refuse or remove any or all of your submission from http://www.cftc.gov that it may deem to be inappropriate for publication, such as obscene language. All submissions that have been redacted or removed that contain comments on the merits of the rulemaking will be retained in the public comment file and will be considered as required under the Administrative Procedure Act and other applicable laws, and may be accessible under the Freedom of Information Act.

FOR FURTHER INFORMATION CONTACT: Nisha Smalls, Consumer Education & Outreach Specialist, 202-418-5000, consumers@cftc.gov, Office of Consumer Outreach, Commodity Futures Trading Commission, Three Lafayette Centre, 1155 21st Street NW., Washington, DC 20581.

SUPPLEMENTARY INFORMATION: Under the PRA, federal agencies must obtain approval from the Office of Management and Budget (“OMB”) for each collection of information they collect or sponsor. “Collection of information” is defined in 44 U.S.C. 3502(3) as “the obtaining, causing to be obtained, soliciting . . . facts or opinions by or for an agency, regardless of form or format [from] ten or more persons.” An agency may not conduct or sponsor, and a person is not required to respond to, a collection of information unless it displays a valid OMB control number.

Section 3506(c)(2)(A) of the PRA, 44 U.S.C. 3506(c)(2)(A), requires federal agencies to provide a 60-day notice in the Federal Register for each proposed collection of information before submitting the collection to OMB for approval. Under OMB regulations, which implement provisions of the PRA, certain “facts or opinions submitted in response to general solicitations of comments from the public, published in the Federal Register or other publications,” 5 CFR 1320.3(h)(4), or “facts or opinions obtained or solicited at or in connection with public hearings or meetings,” 5 CFR 1320.3(h)(8), are excluded from the OMB approval process.

In 2010, the Dodd-Frank Act ² expanded the Commission's authority to, among other matters related to regulatory oversight, establish funding of consumer education initiatives under its new Whistleblower authority.³ Under this new authority, the Commission established an Office of Consumer Outreach (“OCO”) to, among other efforts, survey the public regarding consumer education initiatives.⁴ This notice announces a public survey. The survey will include screening questions to identify the correct respondents and questions to determine optimal messages to help consumers identify, avoid, and report financial fraud as part of a consumer-facing anti-fraud campaign. This survey will follow qualitative message testing research (for which CFTC received fast-track OMB approval) and is necessary to identify, with statistical validation, which of these messages most effectively help consumers to identify, avoid, and report financial fraud.

² See Dodd-Frank Wall Street Reform and Consumer Protection Act, Public Law. 111-203,124 Stat. 1376 (2010). The text of the Dodd-Frank Act may be accessed at http://www.cftc.gov/LawRegulation/DoddFrankAct/index.htm.

³ See 7 U.S.C. 26.

⁴ See 17 CFR 165.12.

The OCO will use the information collected in the survey to develop effective methods to inform the public on how best to detect and report financial fraud. This will be done by creating a final summary report that combines key findings from both the survey as well as other qualitative research.

Findings from the summary report will be used to inform a directional document to be used by the OCO that will include recommendations on primary messages, support points, content, overall tone, phrasing and imagery of outreach efforts on financial fraud, as well as how to use these messages in various communications channels (e.g. online, print, radio, TV and collateral materials).

The survey will be administered using an online survey tool. The online modality approach will allow presentation of test material to participants in a more convenient and time-efficient manner than other collection methods such as mall intercepts. The online method also allows for a quicker turnaround for data collection. No other collection methods will be used.

The screening questions will take about 1 minute to complete. It is anticipated that 2,200 people will be screened. The survey will take 15 minutes. 1,100 people will take the 15 minute survey. Based on these assumptions, the total burden hours will be 330 hours. This estimate includes the time to prepare the survey and transmit it to the Commission. The Commission estimates the average burden of this collection of information as follows:

Estimated Annual Reporting Burden Hours
| Annual | Frequency | Hours per | Total |
17 CFR Part 165 | 2,200 | 1 response per respondent | 1 minute per response | 2,200 | 36.7 hours—$96.36 per burden hour.
17 CFR Part 165 | 1,100 | 1 response per respondent | 15 minutes per response | 1,100 | 293.3 hours—$96.36 per burden hour.

Issued in Washington, DC, on August 16, 2013, by the Commission.
Melissa D. Jurgens,
Secretary of the Commission.

[FR Doc. 2013-20419 Filed 8-21-13; 8:45 am]

BILLING CODE 6351-01-P